DEPARTMENT OF HOMELAND SECURITY

Coast Guard

[Docket No. USCG-2013-0194]

Navigation Safety Advisory Council

AGENCY: United States Coast Guard, DHS.

ACTION: Notice of Federal advisory committee meeting.

SUMMARY: The Navigation Safety Advisory Council (NAVSAC) will meet April 10-11, 2013, in Arlington, Virginia to discuss matters relating to maritime collisions, rammings, groundings; Inland and International Rules of the Road; navigation regulations and equipment; routing measures; marine information; diving safety; and aids to navigation systems. The meeting will be open to the public.

DATES: NAVSAC will meet Wednesday, April 10, 2013, from 8 a.m. to 5 p.m., and Thursday, April 11, 2013, from 8 a.m. to 5 p.m. Please note that the meeting may close early if the committee has completed its business. Pre-registration and written comments are due April 1, 2013.

ADDRESSES: The meeting will be held at the Navy League Building, Coast Guard Recruiting Command, 5th floor conference room, 2300 Wilson Boulevard, Suite 500, Arlington, Virginia 20598. All visitors to the Navy League Building must pre-register to be admitted to the building. You may pre-register by contacting Mr. Burt Lahn listed in the FOR FURTHER INFORMATION CONTACT section below.

For information on facilities or services for individuals with disabilities or to request special assistance at the meeting, contact Mr. Burt Lahn listed in the FOR FURTHER INFORMATION CONTACT section below as soon as possible.

To facilitate public participation, we are inviting public comment on the issues to be considered by the committee prior to the formulation of recommendations as listed in the “Agenda” section below. You may submit written comments no later than April 1, 2013, and must be identified by USCG-2013-0194 using one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov.

A public comment period will be held during the meeting on April 10, 2013, from 3:00 p.m. to 4:00 p.m. and April 11, 2013, from 11:00 a.m. until the close of the meeting. Public presentations may also be given. Speakers are requested to limit their presentation and comments to 10 minutes. Please note that the public comment period may end before the time indicated, following the last call for comments. To register as a speaker, contact Mr. Burt Lahn listed in the FOR FURTHER INFORMATION CONTACT section below.

FOR FURTHER INFORMATION CONTACT: If you have questions about this meeting, please contact Mr. Mike Sollosi, the NAVSAC Alternate Designated Federal Officer (ADFO), by telephone at 202-372-1545 or via email at mike.m.sollosi@uscg.mil; or Mr. Burt Lahn, NAVSAC meeting coordinator, at telephone 202-372-1526 or email burt.a.lahn@uscg.mil. If you have questions on viewing or submitting material to the docket, call Barbara Hairston, Program Manager, Docket Operations, telephone 202-366-9826.

SUPPLEMENTARY INFORMATION: Notice of this meeting is given under the Federal Advisory Committee Act (FACA), 5 U.S.C. App. (Pub. L. 92-463).

The NAVSAC is an advisory committee authorized by 33 U.S.C. 2073 and chartered under the provisions of the FACA. NAVSAC provides advice and recommendations to the Secretary, through the Commandant of the U.S. Coast Guard, on matters relating to prevention of maritime collisions, rammings, and groundings; Inland and International Rules of the Road; navigation regulations and equipment; routing measures; marine information; diving safety; and aids to navigation systems.

The meeting will be held at the Navy League Building, Coast Guard Recruiting Command, 5th floor conference room, 2300 Wilson Boulevard, Suite 500, Arlington, Virginia 20598. http://maps.google.com/maps?hl=en&gbv=2&um=1&ie=UTF-8&q=navy+league+building+arlington+va&fb=1&gl=us&hq=navy+league+building&hnear=0x89b7b69d7ba7a70f:0xf8cf6fc845f6b093,Arlington,+VA&cid=0,0,16025978759884607342&sa=X&ei=c-4YUcGuKcy50AH0nYGgDQ&ved=0CCIQtQMwAg.

Agenda: The NAVSAC will meet to review, discuss and formulate recommendations on the following topics: Wednesday, April 10, 2013:

(1) Update on all past Resolutions to the Council. The Council will receive an update on the status of all outstanding resolutions and open action items.

(2) Risk assessment updates. The Coast Guard is currently conducting formal risk assessments for several U.S. ports/waterways. The Council will receive a briefing on why the risk assessments were initiated, how they are being conducted, what the risk assessments will produce, and how the Coast Guard will act on the results.

(3) E-Navigation Strategy. Under the auspices of the Committee on the Marine Transportation System, the Coast Guard and other agencies have developed a National e-Navigation Strategy that will establish a framework for data exchange between and among ships and shore facilities. The Council will receive an update on how the use of the Automatic Identification System (AIS) and the Physical Oceanographic Real Time System support the E-Navigation Strategy.

(4) Atlantic Coast Ports Access Route Study (ACPARS). The Council will receive an update on the ACPARS undertaken to accommodate offshore wind energy development. The update will include a presentation on how AIS track data is being included as a Geospatial Information System component of the study.

(5) In response to a statement made by a member of the public during the April 2012 meeting, the Council will receive an update on requirements for encoding information into shipboard AIS devices.

Following the above presentations, the Council will form working groups to discuss and provide recommendations on the following tasks as appropriate:

(1) NAVSAC Task 05-05—Lights for Public Safety and Law Enforcement Vessels. At the November 2012 NAVSAC meeting, the Council briefly discussed the task and its ongoing work, and in response to task statement 05-05, provided Resolution 12-07, concerning lights on vessels engaged in defined public safety activities. The Council will be asked to continue discussions on this task and provide an update to Resolution 12-07 that includes recommendations for lights on law enforcement vessels engaged in law enforcement activities.

(2) NAVSAC Task 12-03—Unmanned vehicles/vessels (UV). The Council was asked to review current UV standards of operation, consider whether the latest generation of these vessels should employ AIS, and propose additional rules/standards of operation for both unmanned underwater vehicles, and unmanned surface vessels. NAVSAC was asked to provide a Resolution to this task at the spring 2013 meeting. At the November 2012 NAVSAC meeting, the Council briefly discussed the task and its ongoing work, and in response to task statement 12-03, provided Resolution 12-08 on recommendations for unmanned underwater vehicles. The Council will be asked to continue discussions on this task and provide an update to Resolution 12-08 that includes recommendations for rules/standards of operation for unmanned surface vessels.

(3) NAVSAC Task 13-01—Special Distinctive Lights for Small Passenger Vessels. Various port and government authorities, in conjunction with operators of small passenger vessels, have designed and installed distinctive lights for their vessels. The Council will be briefed on some of these lighting schemes and asked to consider whether a change to the navigation rules is needed to standardize these lighting schemes nationwide.

Public comments or questions will be taken during the meeting after the Council discusses each issue and prior to the Council formulating recommendations on each issue. There will also be a public comment period at the end of the meeting.

Thursday, April 11, 2013:

(1) Working Group Discussions continued from April 10.

(2) Working Group Reports presented to the Council.

(3) New Business:

a. Summary of NAVSAC Action Items.

b. Schedule Next Meeting Date—Fall 2013.

c. Council discussions and summary of new tasks and pending action items.

A public comment period will be held after the discussion of new tasks. Speakers' comments are limited to 10 minutes each. Public comments or questions may also be taken during the discussion and recommendations, and new business portions of the meeting.

Dated: March 22, 2013.
P.F. Cook,
Acting Director, Marine Transportation Systems, Captain, U.S. Coast Guard.

[FR Doc. 2013-07155 Filed 3-27-13; 8:45 am]

BILLING CODE 9110-04-P